NUCLEAR REGULATORY COMMISSION

[NRC-2011-0272]

Knowledge and Abilities Catalog for Nuclear Power Plant Operators: Westinghouse AP1000 Pressurized-Water Reactors

AGENCY: United States Nuclear Regulatory Commission.

ACTION: Draft NUREG; request for comment.

SUMMARY: The U.S. Nuclear Regulatory Commission (NRC) is issuing for public comment a draft NUREG, NUREG-2103, Revision 0, “Knowledge and Abilities Catalog for Nuclear Power Plant Operators: Westinghouse AP1000 Pressurized-Water Reactors.

DATES: Submit comments by December 31, 2016. Comments received after this date will be considered if it is practical to do so, but the NRC staff is able to ensure consideration only for comments received on or before this date.

ADDRESSES: Please include Docket ID NRC-2011-0272 in the subject line of your comments. For additional instructions on submitting comments and instructions on accessing documents related to this action, see “Submitting Comments and Accessing Information” in the SUPPLEMENTARY INFORMATION section of this document. You may submit comments by any of the following methods:

• Federal Rulemaking Web site: Go to http://www.regulations.gov and search for documents filed under Docket ID NRC-2011-0272. Address questions about NRC dockets to Carol Gallagher (301) 492-3668; email Carol.Gallagher@nrc.gov.

• Mail comments to: Mail comments to: Cindy Bladey, Chief, Rules, Announcements, and Directives Branch (RADB), Office of Administration, Mail Stop: TWB-05-B01M, U.S. Nuclear Regulatory Commission, Washington, DC 20555-0001, or by fax to RADB at (301) 492-3446.

• Fax comments to: RADB at (301) 492-3446.

FOR FURTHER INFORMATION CONTACT: James Kellum, Division of Construction Inspection and Operational Programs, Office of New Reactors, TWFN Mail Stop 07-D24, U.S. Nuclear Regulatory Commission, Washington, DC 20555-0001; telephone: (301) 415-5305, email: Jim.Kellum@nrc.gov or Richard Pelton, Division of Construction Inspection and Operational Programs, Office of New Reactors, TWFN Mail Stop 07-D24, U.S. Nuclear Regulatory Commission Washington, DC 20555-0001, Phone: (301) 415-1028, email: Rick.Pelton@nrc.gov.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by email to pdr.resource@nrc.gov. The draft NUREG is available electronically under ADAMS Accession No. ML11307A367. The draft NUREG will also be accessible through the NRC's public site under draft NUREGs for comment.

• Federal Rulemaking Web Site: Public comments and supporting materials related to this notice can be found at http://www.regulations.gov by searching on Docket ID NRC-2011-0272.

Discussion

The draft NUREG provides the basis for the development of content-valid licensing examinations for reactor operators (ROs) and senior reactor operators (SROs). The examinations developed using this Catalog along with the Operator Licensing Examination Standards for Power Reactors (NUREG-1021) will sample the topics listed under Title 10 of the Code of Federal Regulations (10 CFR) Part 55.

Dated at Rockville, Maryland, this 16th day of November, 2011.
For the Nuclear Regulatory Commission.
Veronica Rodriguez,
Acting Chief, Operator Licensing and Human Performance Branch, Division of Construction Inspection and Operational Programs, Office of New Reactors.

[FR Doc. 2011-30737 Filed 11-28-11; 8:45 am]

BILLING CODE 7590-01-P